DEPARTMENT OF ENERGY

Federal Energy Regulatory Commission

ILP Effectiveness Evaluation 2010, et al.; Supplemental Notice of Regional Effectiveness Workshops on the Integrated Licensing Process

July 22, 2010.

ILP Effectiveness Evaluation 2010 | Docket No. AD10-7-000.
Georgia Power Company | Project No. 2237-013.
Public Service Company of New Hampshire | Project No. 7528-004.
Pacific Gas & Electric Company | Project No. 803-068.
Pacific Gas & Electric Company | Project No. 2106-059.
PPL, Montana, LLC | Project No. 2301-019.
Energy Northwest | Project No. 2244-022.
Appalachian Power Company | Project No. 2210-169.
Appalachian Power Company | Project No. 739-022.
Public Service Company of Colorado | Project No. 400-051.
Public Service Company of Colorado | Project No. 12589-001.
Green Island Power Authority | Project No. 13-023.
City of Seattle | Project No. 2144-038.
Public Utility District of Snohomish Co., WA | Project No. 2157-188.
Northern Lights, Inc | Project No. 2594-013.
Onyx Specialty Papers, Inc | Project No. 2985-006.
Mahoning Creek Hydro. Co., LLC | Project No. 12555-004.
Vermont Marble Power Division of Omya Inc | Project No. 2558-029.
FPL Energy Maine Hydro LLC | Project No. 2615-037.
Douglas County PUD | Project No. 2149-131.
Exelon Generation Company, LLC | Project No. 2355-011.
Exelon Generation Company, LLC | Project No. 405-087.
Merced Irrigation District | Project No. 2179-042.
Pacific Gas & Electric Company | Project No. 2310-173.
Nevada Irrigation District | Project No. 2266-096.
Sabine River Authority of Texas and State of Louisiana | Project No. 2305-020.
Town of Massena Electric Department | Project No. 12607-001.
Free Flow Power Corporation | Project No. 12829-001.
Free Flow Power Corporation | Project No. 12861-001.
Free Flow Power Corporation | Project No. 12912-001.
Free Flow Power Corporation | Project No. 12915-001.
Free Flow Power Corporation | Project No. 12921-001.
Free Flow Power Corporation | Project No. 12930-001.
Free Flow Power Corporation | Project No. 12938-001.

As announced in the May 18, 2010 Notice of Interviews, Teleconferences, Regional Workshops And Multi-Stakeholder Technical Conference On The Integrated Licensing Process (May 18, 2010 Notice), Commission staff will hold regional workshops at the locations and times listed below. The purposes of the regional workshops are to: (1) Seek feedback and share experiences learned from implementing the Integrated Licensing Process (ILP); (2) build on the feedback gathered through personal interviews and by-sector teleconferences conducted in June and July 2010, and (3) explore ideas to better implement the ILP within the framework of the existing regulations. Because of ex parte concerns, discussions will be limited to process rather than the merits of any proceeding before the Commission.

Location | Date/time
Albany, New York
The Hilton Garden Inn Albany Medical Center, USS Albany Ballroom, 62 New Scotland Avenue, Albany, New York 12208 | Tuesday, September 21, 2010, 9:30 a.m. to 4 p.m.
Seattle, Washington
Embassy Suites Seattle—Tacoma International Airport, 15920 West Valley Highway, Seattle, Washington 98188 | Tuesday, September 21, 2010, 9:30 a.m. to 4 p.m.
Charlotte, North Carolina
The Doubletree Guest Suites Charlotte SouthPark, 6300 Morrison Boulevard, Charlotte, North Carolina 28211 | Thursday, September 23, 2010, 9:30 a.m. to 4 p.m.
Sacramento, California
Holiday Inn Capitol Plaza, 300 J Street, Sacramento, California 95814 | Tuesday, September 28, 2010, 9:30 a.m. to 4 p.m.

The workshops are open to the public and all interested parties are invited to attend and participate. These meetings will be posted on the Commission's calendar located at http://www.ferc.gov/EventCalendar/EventsList.aspx.

To ensure adequate materials are available, please register to attend the workshops by e-mailing Stephanie Obadia at sobadia@kearnswest.com by September 14, 2010. While we encourage interested parties to attend the workshops in person, anyone wishing to participate via teleconference should e-mail Stephanie Obadia at sobadia@kearnswest.com by September 14, 2010, to receive the toll-free telephone number and password to join the teleconference.

See the May 18, 2010 Notice for additional details regarding the ILP effectiveness evaluation.

For additional information, please contact David Turner at 202-502-6091 or david.turner@ferc.gov.

Kimberly D. Bose,
Secretary.

[FR Doc. 2010-18593 Filed 7-28-10; 8:45 am]

BILLING CODE 6717-01-P